DEPARTMENT OF TRANSPORTATION

Federal Aviation Administration

Launch of a Reentry Vehicle as a Payload That Requires a Reentry Authorization To Return to Earth

AGENCY: Federal Aviation Administration (FAA), Department of Transportation (DOT).

ACTION: Notice.

SUMMARY: This action provides notice that in general, the FAA will not authorize launch of a reentry vehicle as a payload that will require a reentry authorization to return to Earth unless the reentry vehicle operator has obtained the appropriate reentry authorization.

DATES: Applicable April 17, 2024.

FOR FURTHER INFORMATION CONTACT: Mr. Stephen Earle, Manager, Space Policy and Outreach Branch, (202) 267-8379.

SUPPLEMENTARY INFORMATION:

I. Background

The Commercial Space Launch Act of 1984, as codified and amended at 51 U.S.C.—Commercial Space Transportation, chapter 509, Commercial Space Launch Activities, 51 U.S.C. 50901-50923 (the Act), authorizes the DOT and the FAA, through delegations, to oversee, license, and regulate commercial launch and reentry activities, and the operation of launch and reentry sites as carried out by United States (U.S.) citizens or within the U.S. Consistent with the authority conferred under 51 U.S.C. chapter 509, the FAA reviews payloads to be launched or reentered under an FAA license to determine the effect of the payload's launch or reentry on public health and safety, safety of property, U.S. national security or foreign policy interests, or international obligations of the United States. Applicants seeking a vehicle operator license under 14 CFR part 450 must receive a favorable payload determination under § 450.43 if they propose to carry a payload on their vehicle. Operators seeking to launch or reenter a payload under a legacy license ¹ (14 CFR part 415, 417, 431, or 435) must receive a favorable payload determination under subpart D of part 415 or 431.

¹ The FAA refers to licenses issued under these parts as “legacy licenses,” as they will be removed from the CFR on March 10, 2026. After that time, all operators must demonstrate compliance with part 450. See 85 FR 79566.

Restrictions on launches, operations, and reentries include the following under 51 U.S.C. 50904:

Launch and Reentry License Requirements

• A person or citizen of the United States must obtain a license from the FAA to launch a launch vehicle or to reenter a reentry vehicle in the United States or anywhere in the world, respectively. 51 U.S.C. 50904(a).

Compliance With Payload Requirements

• The holder of a license or permit under this chapter may launch or reenter a payload only if the payload complies with all requirements of the laws of the United States related to launching or reentering a payload. 51 U.S.C. 50904(b).

Preventing Launches and Reentries

• The Secretary of Transportation shall establish whether all required licenses, authorizations, and permits required for a payload have been obtained. If no license, authorization, or permit is required, the Secretary may prevent the launch or reentry if the Secretary decides the launch or reentry would jeopardize the public health and safety, safety of property, or national security or foreign policy interest of the United States. 51 U.S.C. 50904(c).

The FAA's payload review and determination regulations are consistent with the statutory requirements.

II. Payload Review and Determination

A payload means an object that a person undertakes to place in outer space such as in Earth orbit by means of a launch vehicle, including components of the vehicle specifically designed or adapted for that object. 14 CFR 401.7. Applicants seeking a vehicle operator license under 14 CFR part 450 must receive a favorable payload determination in accordance with § 450.43 if they propose to carry a payload on their vehicle.² In accordance with § 450.43(a)(1) and (a)(2),³ the FAA issues a favorable payload determination for a launch or reentry to a license applicant or payload owner or operator if—

² Applicants operating under the legacy requirements must receive a favorable payload determination in accordance with 14 CFR part 415 subpart D.

³ These requirements are mirrored in 14 CFR 415.51 and 415.61 of the legacy requirements.

(1) The applicant, payload owner, or payload operator has obtained all required licenses, authorizations, and permits; and

(2) Its launch or reentry would not jeopardize public health and safety, safety of property, U.S. national security or foreign policy interests, or international obligations of the United States.⁴

⁴ While the FAA would review all payloads to determine their effect on the safety of launch, the FAA per § 450.43(b) will not make a determination on those aspects of payloads that are subject to regulation by the Federal Communications Commission (FCC) or the Department of Commerce or on payloads owned or operated by the U.S. Government. Furthermore, in accordance with § 450.43(c), the FAA may review and issue findings regarding a proposed class of payload. However, prior to a launch, each payload is subject to verification by the FAA that its launch would not jeopardize public health and safety, safety of property, U.S. national security or foreign policy interests, or international obligations of the United States.

The FAA's regulatory criteria for issuing a favorable payload determination or denying a payload determination per § 450.43(g) is consistent with 51 U.S.C. 50904(b) and (c). It therefore follows that denial of a payload determination may be tied to a payload owner or operator not obtaining all required licenses or authorizations, which then leads to potential safety concerns as discussed further below.

III. Payload Owner or Payload Operator Has Not Obtained all Required Licenses or Authorizations

A reentry vehicle may be launched as a payload and return to Earth as a reentry vehicle with the appropriate reentry authorization. A reentry vehicle means a vehicle designed to return from Earth orbit or outer space to Earth substantially intact. 14 CFR 401.7. For the launch phase, the reentry vehicle is also a payload being transported or carried aloft by the launch vehicle. For the reentry phase, it is a reentry vehicle designed to return purposefully to Earth substantially intact under the appropriate reentry authorization. To reenter a reentry vehicle, an operator must obtain a vehicle operator license in accordance with part 450 or a reentry license in accordance with part 435. Therefore, an applicant, payload owner, or payload operator of a reentry vehicle that will be launched as a payload and will return to Earth must satisfy both the payload review requirements in 14 CFR 450.43 for the launch phase and the reentry requirements in part 450 or part 435 for the reentry phase. An applicant, payload owner, or payload operator would not meet § 450.43(a)(1) for such a payload if they have not received the authorization or FAA license necessary to conduct its reentry. The FAA discusses the safety reasons for requiring a reentry authorization for such a payload in the following section.

IV. Concerns Associated With Launch of a Reentry Vehicle Without Reentry Authorization

1. Substantially Intact: Unlike typical payloads designed to operate in outer space, a reentry vehicle has primary components that are designed to withstand reentry substantially intact and therefore have a near-guaranteed ground impact as a result of either a controlled reentry or a random reentry.

2. Public Risk: During controlled reentry, under an FAA license, the risk to the public is established not to exceed a one in ten thousand expected casualty in accordance with § 450.101(b)(1)(i). Although the FAA does not currently regulate uncontrolled random atmospheric reentries, the standard U.S. and international risk standard for that activity is also one in ten thousand expected casualties. Risk of an authorized controlled reentry of a reentry vehicle is typically managed through appropriate reentry site selection and hazard area clearing procedures. A random reentry results in risks to populated and remote areas, yet it does not afford for any hazard area clearing such as for airspace. Therefore, a random reentry of a reentry vehicle that has not been authorized will likely result in risks above those accepted for FAA licensed-reentry operations.

3. Limited Options: Once a reentry vehicle has been launched, there are limited options for the safe reentry of the vehicle because it is already in orbit and may be constrained by orbital lifetime, reliability of safety critical systems, orbital decay, available propellant or power, or other factors. Options to modify the reentry (e.g., move the landing or impact location, change the deorbit trajectory, move the vehicle to a disposal orbit) may also be limited once in orbit. Placing a reentry vehicle in a disposal orbit above 2000 km will not likely be feasible because it may be cost prohibitive, or the vehicle may not have sufficient propellant to raise its orbit. Even if possible, this would add to the debris environment. Therefore, it is crucial to evaluate the safety of the reentry prior to launch. This way, the FAA is able to work with the reentry operator to meet the required risk and other criteria.

4. Payload Review: A payload review for the launch of a launch vehicle carrying a reentry vehicle would include verifying that the reentry vehicle operator has obtained the necessary reentry license or authorization. If reentry authorization has not been received at the time of launch of the reentry vehicle, the FAA would deny a favorable payload determination in accordance with 14 CFR 450.43(g).

Conclusion

In general, the FAA will not authorize launch of a reentry vehicle unless the appropriate reentry authorization has been obtained by the reentry vehicle operator, in accordance with the FAA's statutory authority and payload review and determination regulations where denial of a payload determination may be tied to a payload owner or operator not obtaining all required licenses or authorizations in accordance with § 450.43(a)(1). Launch of a reentry vehicle without an authorization for reentry would pose safety concerns that are designed to be addressed by the reentry licensing process.

James A. Hatt,
Space Policy Division Manager, Office of Commercial Space Transportation.

[FR Doc. 2024-08156 Filed 4-16-24; 8:45 am]

BILLING CODE P